DEPARTMENT OF TRANSPORTATION

Federal Aviation Administration

14 CFR Part 71

[Docket No. FAA-2021-0479; Airspace Docket No. 21-AGL-5]

RIN 2120-AA66

Amendment of VOR Federal Airways V-170, V-175 and V-250; Establishment of Area Navigation (RNAV) Route T-400; in the Vicinity of Worthington, MN.

AGENCY: Federal Aviation Administration (FAA), DOT.

ACTION: Final rule; delay of effective date.

SUMMARY: This action changes the effective date of a final rule published in the Federal Register on January 14, 2022, amending VHF Omnidirectional Range (VOR) Federal airways V-170, V-175, and V-250, and establishing area navigation (RNAV) route T-400, due to the planned decommissioning of the VOR portion of the Worthington, MN, VOR/Distance Measuring Equipment (VOR/DME) navigational aid. The FAA is delaying the effective date to facilitate continued use of the current Air Traffic Procedures, while allowing sufficient time for redesign of the proposed procedures, in order to meet to required current procedure criteria.

DATES: The effective date of the final rule published on January 14, 2022 (87 FR 2322) is delayed until September 8, 2022. The Director of the Federal Register approved this incorporation by reference action under Title 1 Code of Federal Regulations part 51, subject to the annual revision of FAA Order 7400.11 and publication of conforming amendments.

FOR FURTHER INFORMATION CONTACT: Jesse Acevedo, Rules and Regulations Group, Office of Policy, Federal Aviation Administration, 800 Independence Avenue SW, Washington, DC 20591; telephone: (202) 267-8783.

SUPPLEMENTARY INFORMATION:

Background

The FAA published a final rule in the Federal Register for Docket No. FAA-2021-0479 (87 FR 2322, January 14, 2022), amending VOR Federal airways V-170, V-175, and V-250, and establishing RNAV route T-400, due to the planned decommissioning of the VOR portion of the Worthington, MN, VOR/DME. The effective date for that final rule is March 24, 2022. Subsequent to publication of the final rule, the Flight Standards Procedure Review Board (PRB) denied a waiver request to use a higher climb gradient than specified in current criteria for a portion of the Air Traffic Procedures that were revised in support of this action. The FAA is delaying the effective date to September 8, 2022 to facilitate continued use of the current Air Traffic Service procedures, while allowing sufficient time for the redesign of the proposed procedures, in order to meet the required current procedural criteria.

To facilitate the safe and continuous use of existing air traffic procedures while the ATS route procedures are redesigned, the planned decommissioning date for the Worthington, MN, VOR has been postponed to September 8, 2022. The rule amending V-170, V-175, and V-250, and establishing area navigation T-400 is delayed to coincide with that date.

VOR Federal airways and RNAV T-routes are published in paragraphs 6010(a) and 6011, respectively, of FAA Order JO 7400.11F, dated August 20, 2021, and effective September 15, 2021, which are incorporated by reference in 14 CFR 71.1. The ATS routes listed in this document will be published subsequently in FAA Order JO 7400.11.

FAA Order 7400.11, Airspace Designations and Reporting Points, is published yearly and effective on September 15.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 21-AGL-5, as published in the Federal Register on January 14, 2022 (87 FR 2322), FR Doc. 2022-00457, is hereby delayed until September 8, 2022.

Authority: 49 U.S.C. 106(f), 106(g); 40103, 40113, 40120; E.O. 10854, 24 FR 9565, 3 CFR, 1959-1963 Comp., P. 389.

Issued in Washington, DC, on February 9, 2022.
Michael R. Beckles,
Manager, Rules and Regulations Group.

[FR Doc. 2022-03129 Filed 2-14-22; 8:45 am]

BILLING CODE 4910-13-P